DEPARTMENT OF JUSTICE

Office of Justice Programs

[OJP (NIJ) Docket No. 1579]

Chemical, Biological, Radiological, Nuclear (CBRN) Protective Ensemble Standard, Certification Program Requirements, and Selection and Application Guide

AGENCY: National Institute of Justice.

ACTION: Notice and request for comments.

SUMMARY: In an effort to obtain comments from interested parties, the U.S. Department of Justice, Office of Justice Programs, National Institute of Justice (NIJ) will make available to the general public (at www.justnet.org) three draft documents related to Chemical, Biological, Radiological, Nuclear (CBRN) protective ensembles used by law enforcement agencies.

DATES: The comment period will be open until September 21, 2012.

FOR FURTHER INFORMATION CONTACT: For further information, see www.justnet.org, or contact David Otterson by telephone at 301-519-5498 or by email at dotterson@justnet.org.

SUPPLEMENTARY INFORMATION: In an effort to obtain comments from interested parties, the U.S. Department of Justice, Office of Justice Programs, National Institute of Justice (NIJ) will make available to the general public (at www.justnet.org) three draft documents related to Chemical, Biological, Radiological, Nuclear (CBRN) protective ensembles used by law enforcement agencies:

1. Draft CBRN Protective Ensemble Standard for Law Enforcement.

2. Draft Law Enforcement CBRN Protective Ensemble Certification Program Requirements.

3. Draft Law Enforcement CBRN Protective Ensemble Selection and Application Guide.

The opportunity to provide comments on these documents is open to industry technical representatives, law enforcement agencies and organizations, research, development and scientific communities, and all other stakeholders and interested parties. Those individuals wishing to obtain and provide comments on the draft documents under consideration are directed to the following Web site: http://www.justnet.org.

Please note that all comments received are considered part of the public record and may be made available for public inspection online. Such information includes personal identifying information (such as name and address) voluntarily submitted by the commenter.

If you wish to submit personal identifying information (such as your name, address, etc.) as part of your comment, but do not wish for it to be posted online, you must include the phrase “PERSONAL IDENTIFYING INFORMATION” in the first paragraph of your comment. You also must locate all the personal identifying information you do not wish to be posted online in the first paragraph of your comment and clearly identify what information you would like redacted.

If you wish to submit confidential business information as part of your comment but do not wish for it to be posted online, you must include the phrase “CONFIDENTIAL BUSINESS INFORMATION” in the first paragraph of your comment. You also must prominently identify confidential business information to be redacted within the comment. If a comment has so much confidential business information that it cannot be effectively redacted, all or part of that comment may not be posted online.

Personal identifying information and confidential business information identified and located as set forth above will be placed in the agency's public docket file (which will be made available for public inspection upon request), but not posted online.

John H. Laub,
Director, National Institute of Justice.

[FR Doc. 2012-19206 Filed 8-6-12; 8:45 am]

BILLING CODE 4410-18-P